DEPARTMENT OF AGRICULTURE

Submission for OMB Review; Comment Request

September 1, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: Rapid Consumer Response Survey.

OMB Control Number: 0536-NEW.

Summary of Collection: The Economic Research Service (ERS), as the lead economic research arm of the U.S. Department of Agriculture, has the responsibility to conduct economic research supporting the mission of the Department. This responsibility includes conducting research and providing information to Department officials on economic issues related to food safety, nutrition and health (including factors related to food choices), consumption patterns at and away from home, food prices, food assistance programs, nutrition education, and food industry structure. USDA faces many demands for information about consumer behavior. To better assess issues of importance to consumers and to agriculture, a pilot survey, entitled Rapid Consumer Response Module (RCRM), is being proposed that will address topical issues in consumer behavior. RCRM will enable the Department to assess consumer attitudes and reactions to market developments and such policy events as the new dietary guidelines, mercury standards for fish, country of origin labeling, price or supply shocks in the food distribution system, and food safety incidents.

Need and Use of the Information: The information collected in the RCRM survey will be on consumption, behavior, and consumer reaction to and opinions about food safety incidents and diet and health issues. The information gained from the RCRM will help researchers formulate their hypotheses and provide key indicators on consumers' attitude or perception on dietary and safety issues. Without the information ERS is not able to conduct the proposed surveys, the agency's ability to have access to timely information about consumer behavior and attitude on diet and health issues will be greatly hampered.

Description of Respondents: Individuals or households.

Number of Respondents: 6,600.

Frequency of Responses: Reporting: Quarterly.

Total Burden Hours: 3,080.

Ruth Brown,
Departmental Information Collection Clearance Officer.

[FR Doc. E6-14819 Filed 9-6-06; 8:45 am]

BILLING CODE 3410-18-P